DEPARTMENT OF TRANSPORTATION

Federal Aviation Administration

Proposed Policy on Enabling the Use of Unleaded Aviation Gasoline in Piston Engine Aircraft and Aircraft Engines Through the Fleet Authorization Process

AGENCY: Federal Aviation Administration, DOT.

ACTION: Notice of availability; request for comments.

SUMMARY: This notice announces the availability of a draft Policy Statement PS-AIR-20-2000-DRAFT, Enabling the Use of Unleaded Aviation Gasoline in Piston Engine Aircraft and Aircraft Engines through the Fleet Authorization Process. The FAA invites public comment on PS-AIR-20-2000-DRAFT.

DATES: The FAA must receive comments on these proposed documents by December 5, 2022.

ADDRESSES: PS-AIR-20-2000-DRAFT can be viewed and receive comment submissions through the FAA's Aviation Safety Draft Documents website, https://www.faa.gov/aircraft/draft_docs.

FOR FURTHER INFORMATION CONTACT: Ansel James, Research Coordination Branch, AIR-670, Policy and Innovation Division, Aircraft Certification Service, Federal Aviation Administration, 107 Charles W Grant Pkwy., Atlanta, GA 30354-3705; telephone and fax (404) 474-5427; email ansel.s.james@faa.gov.

SUPPLEMENTARY INFORMATION:

Background

PS-AIR-20-2000-DRAFT describes the Fleet Authorization process to allow eligible aircraft and aircraft engines to operate using qualified unleaded aviation gasoline (avgas). The use of unleaded avgas in aircraft has been addressed by Congress in section 565, Aviation Fuel, of the FAA Reauthorization Act of 2018, (Pub. L. 115-254). Section 565 includes language that requires the FAA to adopt a process, other than the traditional means of certification, to authorize the use of unleaded avgas in aircraft and aircraft engines. This policy statement defines that process.

Comments Invited

The FAA invites public comments on the draft policy statement concerning the proposed Fleet Authorization process for enabling the use of unleaded aviation gasoline in piston engine aircraft. The FAA will consider the public comments submitted during this comment period through the FAA's Aviation Safety Draft Documents website in finalizing PS-AIR-20-2000-DRAFT.

Issued in Washington, DC, on September 29, 2022.
Bruce E. DeCleene,
Deputy Director, Policy and Innovation Division, Aircraft Certification Service.

[FR Doc. 2022-21530 Filed 10-4-22; 8:45 am]

BILLING CODE 4910-13-P